FEDERAL RETIREMENT THRIFT INVESTMENT BOARD

Sunshine Act; Board Member Meeting

TIME AND DATE: 10:00 a.m. (Eastern Time) August 22, 2016 (Telephonic).

PLACE: 10th Floor Board Meeting Room, 77 K Street NE., Washington, DC 20002.

STATUS: Parts will be open to the public and part will be closed to the public.

MATTERS TO BE CONSIDERED:

Open to the Public

1. Approval of the Minutes for the July 25, 2016 Board Member Meeting

2. Monthly Reports

(a) Participant Activity Report

(b) Investment Performance Report

3. Quarterly Reports

(c) Metrics

(d) Project Activity

4. Calendar Review: 2016-2017 Board Member Meetings

Closed to the Public

5. Security

6. Procurement

CONTACT PERSON FOR MORE INFORMATION: Kimberly Weaver, Director, Office of External Affairs, (202) 942-1640.

Dated: August 12, 2016.
Laurissa Stokes,
Assistant General Counsel, Federal Retirement Thrift Investment Board.

[FR Doc. 2016-19617 Filed 8-12-16; 4:15 pm]

BILLING CODE 6760-01-P